DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2015, through July 31, 2015. This list provides the name of petitioner, city, and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: August 19, 2015.
James Macrae,
Acting Administrator.

List of Petitions Filed

1. Penny Walden, Urbana, Illinois, Court of Federal Claims No: 15-0685V

2. Wendy Norris, Irvine, California, Court of Federal Claims No: 15-0686V

3. Whitney Hill on behalf of C. T., Deceased, Piermont, New York, Court of Federal Claims No: 15-0687V

4. Anton Schumacher, Norristown, Pennsylvania, Court of Federal Claims No: 15-0692V

5. Lisa Davis, Annapolis, Maryland, Court of Federal Claims No: 15-0693V

6. Michael Rishwain, Stockton, California, Court of Federal Claims No: 15-0695V

7. Arlyne Rothenberg, New York, New York, Court of Federal Claims No: 15-0696V

8. Eve Dineen and Daniel Dineen on behalf of Ennio Dell Dineen, Napa, California, Court of Federal Claims No: 15-0700V

9. Adele Hamilton, Manchester Township, New Jersey, Court of Federal Claims No: 15-0701V

10. Judith Schultz, Glen Falls, New York, Court of Federal Claims No: 15-0702V

11. Jenine Gail Fugate, Huntington, West Virginia, Court of Federal Claims No: 15-0703V

12. Thomas Shinskey, Glen Rock, New Jersey, Court of Federal Claims No: 15-0713V

13. Sasha Martin on behalf of A. N. M., Deceased, Toledo, Ohio, Court of Federal Claims No: 15-0715V

14. Katie Davis on behalf of J.L.D., Baxley, Georgia, Court of Federal Claims No: 15-0716V

15. Steven Pancoast, Hampton, Virginia, Court of Federal Claims No: 15-0718V

16. Leonora Bantugan on behalf of Manuel Bolotaolo, Deceased, Simi Valley, California, Court of Federal Claims No: 15-0721V

17. John M. Dallas, Mason City, Iowa, Court of Federal Claims No: 15-0722V

18. Thomas Reece, Crossville, Tennessee, Court of Federal Claims No: 15-0724V

19. Jasmatie Hardeen and Ryon Hardeen on behalf of R. H., Vienna, Virginia, Court of Federal Claims No: 15-0726V

20. John Deselm, Highland, Texas, Court of Federal Claims No: 15-0727V

21. Constance Wadkins, Clackamas, Oregon, Court of Federal Claims No: 15-0728V

22. Darlene Steele, Uniontown, Pennsylvania, Court of Federal Claims No: 15-0729V

23. Stefenie Hilario, San Antonio, Texas, Court of Federal Claims No: 15-0730V

24. Michelle Fisher and Ricky Fisher on behalf of C. F., Omaha, Nebraska, Court of Federal Claims No: 15-0731V

25. Dana Cohen, Glen Rock, New Jersey, Court of Federal Claims No: 15-0733V

26. Amy N. Heddens, Seattle, Washington, Court of Federal Claims No: 15-0734V

27. Yvette Hill, Philadelphia, Pennsylvania, Court of Federal Claims No: 15-0735V

28. Gladys Guzman, New York, New York, Court of Federal Claims No: 15-0736V

29. Lauren Briggs on behalf of E. B., Commack, New York, Court of Federal Claims No: 15-0737V

30. Michael Mulligan, Jacksonville, Florida, Court of Federal Claims No: 15-0738V

31. Ninebeth Gal, Woodland Hills, California, Court of Federal Claims No: 15-0739V

32. Amy Loeding, Billings, Montana, Court of Federal Claims No: 15-0740V

33. Candice Cheung on behalf of A.N., Beverly Hills, California, Court of Federal Claims No: 15-0741V

34. Kellie M. DiPietro, Washington, District of Columbia, Court of Federal Claims No: 15-0742V

35. Cindy M. Del Tufo, Franklin Lakes, New Jersey, Court of Federal Claims No: 15-0745V

36. Amanda Green, Largo, Florida, Court of Federal Claims No: 15-0748V

37. Gary Bondi, Dallas, Texas, Court of Federal Claims No: 15-0749V

38. Paul Balek, Chicago, Illinois, Court of Federal Claims No: 15-0750V

39. Allison Holland, Cincinnati, Ohio, Court of Federal Claims No: 15-0751V

40. Peter C. Harrington, Pensacola, Florida, Court of Federal Claims No: 15-0752V

41. Jennifer Arnett, Dayton, Ohio, Court of Federal Claims No: 15-0753V

42. Ashley Encinias, Albuquerque, New Mexico, Court of Federal Claims No: 15-0755V

43. Dean Waasted, Orange, California, Court of Federal Claims No: 15-0757V

44. Sandra G. Price, Wichita, Kansas, Court of Federal Claims No: 15-0759V

45. Richard D. Epperson, Lee's Summit, Missouri, Court of Federal Claims No: 15-0760V

46. Brenda K. Barbee, Raleigh, North Carolina, Court of Federal Claims No: 15-0761V

47. Tina Lazicki, Philadelphia, Pennsylvania, Court of Federal Claims No: 15-0762V

48. Mary Jo Maleport, Kentwood, Michigan, Court of Federal Claims No: 15-0763V

49. Dawn Kelly, Midway, Georgia, Court of Federal Claims No: 15-0765V

50. John M. Robinson, Napa, California, Court of Federal Claims No: 15-0766V

51. Shawn Shorkey, Dallas, Texas, Court of Federal Claims No: 15-0768V

52. Michael Purcell, Rochester, New York, Court of Federal Claims No: 15-0770V

53. Carrie Payne, Beaver, Pennsylvania, Court of Federal Claims No: 15-0771V

54. Hannah Marie Robinson, Moore, Oklahoma, Court of Federal Claims No: 15-0772V

55. Brynn Contino on behalf of G. C., New Market, Maryland, Court of Federal Claims No: 15-0773V

56. Melissa Jones, Lexington, Kentucky, Court of Federal Claims No: 15-0774V

57. Jane K. Baker, Lewisburg, Pennsylvania, Court of Federal Claims No: 15-0775V

58. Heather Caron on behalf of A. C., Waterville, Maine, Court of Federal Claims No: 15-0777V

59. Thomas Dyroff, Devon, Pennsylvania, Court of Federal Claims No: 15-0780V

60. Kelly Dillon, Leesburg, Virginia, Court of Federal Claims No: 15-0781V

61. Brenda Benjamin, Dublin, California, Court of Federal Claims No: 15-0782V

62. Teresa Cook, Rochester, New York, Court of Federal Claims No: 15-0783V

63. Cheri Fox, Bonney Lake, Washington, Court of Federal Claims No: 15-0784V

64. Christina Nolen on behalf of Nicholas Nolan, Louisa, Virginia, Court of Federal Claims No: 15-0787V

65. Lindey Martin and Raynard Martin on behalf of I.R.M., Deceased, Powell, Ohio, Court of Federal Claims No: 15-0789V

66. Heathe Heller and Jenna Heller on behalf of H. H., Decatur, Texas, Court of Federal Claims No: 15-0792V

67. Sherry Harrison, Mount Pleasant, Pennsylvania, Court of Federal Claims No: 15-0795V

68. Amy Uscher on behalf of M. U., Phoenix, Arizona, Court of Federal Claims No: 15-0798V

69. Christina Brethauer, Monroeville, Pennsylvania, Court of Federal Claims No: 15-0800V

70. Jennifer Cirillo, Tucson, Arizona, Court of Federal Claims No: 15-0801V

71. Asharam Tamang, Albany, California, Court of Federal Claims No: 15-0802V

72. Samuel Webb, Phoenix, Arizona, Court of Federal Claims No: 15-0803V

73. Jeff Curran, Denver, Colorado, Court of Federal Claims No: 15-0804V

74. Melissa Lee Madsen, Hopewell, New Jersey, Court of Federal Claims No: 15-0807V

75. Karl Zimmerman, Sandwich, Illinois, Court of Federal Claims No: 15-0809V

76. George Hendrickson on behalf of E. H., Sioux Falls, South Dakota, Court of Federal Claims No: 15-0812V

77. Jean Mann, New York, New York, Court of Federal Claims No: 15-0813V

78. Christi Canada on behalf of L. C., Beverly Hills, California, Court of Federal Claims No: 15-0814V

79. James Wright, Beverly Hills, California, Court of Federal Claims No: 15-0815V

80. Jennifer Toole, San Antonio, Texas, Court of Federal Claims No: 15-0816V

81. Shanna Molina, Providence, Rhode Island, Court of Federal Claims No: 15-0817V

82. Kevin Sanford, Wyomissing, Pennsylvania, Court of Federal Claims No: 15-0818V

83. Dorothy Linginfelter, Knoxville, Tennessee, Court of Federal Claims No: 15-0819V

[FR Doc. 2015-20944 Filed 8-24-15; 8:45 am]

BILLING CODE 4165-15-P